DEPARTMENT OF THE INTERIOR

National Park Service

[NPS-WASO-NAGPRA-NPS0039837; PPWOCRADN0-PCU00RP14.R50000]

Notice of Inventory Completion: Temple University, Philadelphia, PA

AGENCY: National Park Service, Interior.

ACTION: Notice.

SUMMARY: In accordance with the Native American Graves Protection and Repatriation Act (NAGPRA), Temple University has completed an inventory of human remains and associated funerary objects and has determined that there is a cultural affiliation between the human remains and associated funerary objects and Indian Tribes or Native Hawaiian organizations in this notice.

DATES: Repatriation of the human remains and associated funerary objects in this notice may occur on or after May 5, 2025.

ADDRESSES: Dr. Leslie Reeder-Myers, Temple University, Department of Anthropology, 1115 Pollett Walk, Philadelphia, PA 19122, telephone (972) 955-8789, email leslie.reeder-myers@temple.edu.

SUPPLEMENTARY INFORMATION: This notice is published as part of the National Park Service's administrative responsibilities under NAGPRA. The determinations in this notice are the sole responsibility of Temple University, and additional information on the determinations in this notice, including the results of consultation, can be found in the inventory or related records. The National Park Service is not responsible for the determinations in this notice.

Abstract of Information Available

Based on the information available, human remains representing, at least, three individuals have been reasonably identified. The 14 associated funerary objects are 11 lots faunal, one lot ceramics (missing), one lot lithics (missing), and one lot of bone tools (missing). Between November 2008 and January 2009, Del Beck, an avocational archaeologist based in Luzerne County, Pennsylvania removed human remains representing three individuals and associated funerary objects from the Nescopeck Mountain Rock Shelter, Luzerne County, Pennsylvania. On an unknown date, Beck notified Dr. Michael Stewart of Temple University's Anthropology Department and transferred the human remains (individuals) and some funerary objects to the University. In August 2013, Dr. Stewart obtained a radiocarbon date for the site, indicating an age of 3040 +/− 30 years (Archaic period). Beck's site documentation included references to lithic materials, faunal remains, and ceramics. The whereabouts of lithics, ceramics, or bone tools mentioned in Beck's site report are unknown. Based on the available information, a relationship of shared group identity can be identified reasonably between the geographical location and the culturally affiliated Indian Tribes. Luzerne County, Pennsylvania is within the aboriginal and ancestral homeland of the culturally affiliated Indian Tribes. Temple University has no knowledge or record of any potentially hazardous substances being used to treat the human remains or associated funerary objects.

Cultural Affiliation

Based on the information available and the results of consultation, cultural affiliation is reasonably identified by the geographical location or acquisition history of the human remains and associated funerary objects described in this notice.

Determinations

Temple University has determined that:

• The human remains described in this notice represent the physical remains of three individuals of Native American ancestry.

• The 14 objects described in this notice are reasonably believed to have been placed intentionally with or near individual human remains at the time of death or later as part of the death rite or ceremony.

• There is a reasonable connection between the human remains and associated funerary objects described in this notice and the Absentee-Shawnee Tribe of Indians of Oklahoma; Cayuga Nation; Delaware Nation, Oklahoma; Delaware Tribe of Indians; Eastern Shawnee Tribe of Oklahoma; Oneida Indian Nation; Oneida Nation; Onondaga Nation; Saint Regis Mohawk Tribe; Seneca Nation of Indians; Seneca-Cayuga Nation; Shawnee Tribe; Stockbridge Munsee Community, Wisconsin; Tonawanda Band of Seneca; and the Tuscarora Nation.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after May 5, 2025. If competing requests for repatriation are received, Temple University must determine the most appropriate requestor prior to repatriation. Requests for joint repatriation of the human remains and associated funerary objects are considered a single request and not competing requests. Temple University is responsible for sending a copy of this notice to the Indian Tribes and Native Hawaiian organizations identified in this notice.

Authority: Native American Graves Protection and Repatriation Act, 25 U.S.C. 3003, and the implementing regulations, 43 CFR 10.10.

Dated: March 26, 2025.
Melanie O'Brien,
Manager, National NAGPRA Program.

[FR Doc. 2025-05810 Filed 4-3-25; 8:45 am]

BILLING CODE 4312-52-P